DEPARTMENT OF LABOR

Employment and Training Administration

[TA-W-52,628]

V.I. Prewett & Son, Inc., an Affiliate of Prewett Associated Mills, Fort Payne, AL; Notice of Termination of Investigation

Pursuant to section 221 of the Trade Act of 1974, as amended, an investigation was initiated on August 20, 2003 in response to a worker petition filed a company official on behalf of workers at V.I. Prewett & Son, Inc., an affiliate of Prewett Associated Mills, Fort Payne, Alabama.

The petitioner has requested that the petition be withdrawn. Consequently, the investigation has been terminated.

Signed at Washington, DC this 27th day of August, 2003.
Linda G. Poole,
Certifying Officer, Division of Trade Adjustment Assistance.

[FR Doc. 03-24718 Filed 9-29-03; 8:45 am]

BILLING CODE 4510-30-P